DEPARTMENT OF EDUCATION

[CFDA Nos. 84.007, 84.033, 84.038, 84.063, and 84.268]

Free Application for Federal Student Aid (FAFSA); Information To Be Verified for the 2012-2013 Award Year

AGENCY: Office of Postsecondary Education, Department of Education.

ACTION: Notice.

SUMMARY: On October 29, 2010, the Secretary published in the Federal Register (75 FR 66832) final regulations related to program integrity issues in the programs authorized under title IV of the Higher Education Act of 1965, as amended (HEA). Included in these regulations were changes to subpart E of part 668 of title 34 of the Code of Federal Regulations, which includes the Department's regulations for the verification of information submitted on a FAFSA by an applicant for financial assistance from the Federal student assistance programs authorized under title IV of the HEA. New § 668.56(a) provides that for each award year the Secretary will publish in the Federal Register a notice announcing the FAFSA information that an institution and an applicant may be required to verify. New § 668.57(d) further provides that if an applicant is selected to verify FAFSA information specified in the Federal Register notice, the applicant must provide the documentation that the Secretary has specified for that information in the Federal Register notice. Accordingly, through this notice, the Secretary announces the FAFSA information that an institution and an applicant may be required to verify and the acceptable documentation that an applicant must provide to an institution to verify such FAFSA information for the 2012-2013 award year, which is the first award year following the effective date of the regulations.

FOR FURTHER INFORMATION CONTACT: Jacquelyn C. Butler, U.S. Department of Education, Office of Postsecondary Education, 1990 K Street, NW., room 8053, Washington, DC 20006. Telephone: (202) 502-7890.

If you use a telecommunications device for the deaf (TDD), call the Federal Relay Service (FRS), toll free, at 1-800-877-8339.

Individuals with disabilities can obtain this document in an accessible format (e.g., braille, large print, audiotape, or computer diskette) on request to the program contact person listed under FOR FURTHER INFORMATION CONTACT.

SUPPLEMENTARY INFORMATION: The following chart lists the FAFSA information that an institution and an applicant and, if appropriate his or her parent(s) or spouse, may be required to verify and the acceptable documentation that an applicant must provide to an institution for that selected item for the 2012-2013 award year.

FAFSA information selected for verification | Acceptable documentation for FAFSA information selected for verification
All applicants • Number of household members | A statement signed by both the applicant and one of the parents of a dependent student, or only the applicant if the applicant is an independent student, that lists—
| (a) The name and age of each household member; and
| (b) The relationship of that household member to the applicant.
| Note that verification of number of household members is not required if:
| (a) For a dependent student, the household size reported on the FAFSA is two and the parent is single, separated, divorced, or widowed; or three if the parents are married; or
| (b) For an independent student, the household size reported on the FAFSA is one and the applicant is single, separated, divorced, or widowed; or two if the applicant is married. (§ 668.57(b))
• Number of household members enrolled at least half-time in eligible postsecondary institutions | (1) A statement signed by both the applicant and one of the parents of a dependent student, or only the applicant if the applicant is an independent student, listing— (a) The name and age of each household member who is or will be attending an eligible postsecondary educational institution as at least a half-time student in the 2012-2013 award year; and
| (b) The name of the eligible institution(s) that each household member is or will be attending during the 2012-2013 award year. (§ 668.57(c))
| (2) If an institution has reason to believe that an applicant's FAFSA information or the statement provided by the applicant regarding the number of household members enrolled in eligible postsecondary institutions is inaccurate, the institution must obtain a statement from each institution named by the applicant that the household member in question is or will be attending that institution on at least a half-time basis unless—
| (a) The institution the student is attending determines that such a statement is not available because the household member in question has not yet registered at the institution he or she plans to attend; or
| (b) The institution has information indicating that the household member in question will be attending the same institution as the applicant.
| Note that verification is not required if the reported number of household members enrolled at least half-time in eligible postsecondary institutions is one. (§ 668.57(c)(2))
• Food Stamps—Supplemental Nutrition Assistance Program (SNAP) | Documentation from the agency that issues the Food Stamps benefit or alternative documentation as determined by the institution to be sufficient to confirm that the applicant received Food Stamps in 2010 or 2011. (§ 668.57(d))
• Child Support Paid | (1) A statement signed by the applicant, spouse, or parent who paid child support certifying—
| (a) The amount of child support paid;
| (b) The name of the person to whom child support was paid; and
| (c) The name of the children for whom child support was paid.
| (2) If the institution believes the information provided in the signed statement is inaccurate, the applicant must provide the institution with documentation such as—
| (a) A copy of the separation agreement or divorce decree that shows the amount of child support to be provided;
| (b) A statement from the individual receiving the child support showing the amount provided; or
| (c) Copies of the child support checks or money order receipts. (§ 668.57(d))
Income information for tax filers ¹ • Adjusted Gross Income (AGI) • U.S. income tax paid • Untaxed IRA Distributions • Untaxed Pensions • Education Credits • IRA Deductions • Tax Exempt Interest | (1) Information that the Secretary has identified as having been obtained from the Internal Revenue Service (IRS) (commonly referred to as the IRS Data Retrieval Process) and not having been changed. (§ 668.57(a)(2)) (2) If a tax filer is unable to provide the income information through the IRS Data Retrieval Process, a transcript ² obtained from the IRS that lists tax account information of the tax filer for tax year 2011. (§ 668.57(a)(1)(i))
Income information for tax filers with special circumstances ¹ | For an individual that filed a joint income tax return and is married to someone other than the individual included on a joint income tax return, or is separated, divorced, or widowed:
• Adjusted Gross Income (AGI) • U.S. income tax paid | (1) A transcript ² obtained from the IRS that lists tax account information of the tax filer(s) for tax year 2011; and (§ 668.57(a)(1)(i))
• Untaxed IRA Distributions • Untaxed Pensions • Education Credits • IRA Deductions • Tax Exempt Interest | (2) A copy of IRS Form W-2 ³ for each source of employment income received for tax year 2011 by— (a) The parent(s) of a dependent student whose income is used in the calculation of the applicant's expected family contribution (EFC) if the parent(s) filed a joint income tax return and the parent(s) is married to someone other than the individual included on a joint income tax return, or is separated, divorced, or widowed. (§ 668.57(a)(1)(ii)) (b) An independent student who filed a joint income tax return and who is married to someone other than the individual included on a joint income tax return, or who is separated, divorced, or widowed. (§ 668.57(a)(1)(iii))
| For an individual who is required to file a U.S. income tax return and has been granted a filing extension by the IRS:
| (1) A copy of IRS Form 4868, “Application for Automatic Extension of Time to File U.S. Individual Income Tax Return,” that the individual filed with the IRS for tax year 2011, or a copy of the IRS's approval of an extension beyond the automatic six-month extension if the individual requested an additional extension of the filing time for tax year 2011. After the income tax return is filed, an institution may request that an individual granted a filing extension submit a transcript ² from the IRS that lists tax account information for tax year 2011. If an institution receives the transcript², it must reverify the AGI and taxes paid by the tax filer(s). (§ 668.57(a)(3)(ii) and (a)(4)(ii)(A))
| (2) A copy of IRS Form W-2 ³ for each source of employment income received for tax year 2011 by an individual that has been granted a filing extension by the IRS for tax year 2011. (§ 668.57(a)(4)(ii)(B))
| (3) A signed statement by a self-employed individual certifying the amount of the AGI and the U.S. income tax paid for tax year 2011. (§ 668.57(a)(4)(ii)(B))
| For an individual that has requested a transcript that lists tax account information for tax year 2011 and the IRS, a government of a U.S. territory or commonwealth or a foreign central government cannot provide or locate a transcript that lists tax account information:
| (1) A copy of IRS Form W-2 ³ for each source of employment income received for tax year 2011 (§ 668.57(a)(3)(iii) and (a)(4)(iii)(A))
| (2) A signed statement by a self-employed individual or an individual that has filed an income tax return with a government of a U.S. territory or commonwealth or a foreign central government certifying the amount of AGI and taxes paid for tax year 2011. (§ 668.57(a)(4)(iii)(B))
Income information for nontax filers • Income earned from work | For an individual that has not filed and, under IRS rules or other applicable government agency rules, is not required to file an income tax return—
| (1) A copy of IRS Form W-2 ³ for each source of employment income received for tax year 2011. (§ 668.57(a)(3)(i) and (a)(4)(i)(B))
| (2) A signed statement certifying—
| (a) That the individual has not filed and is not required to file an income tax return for tax year 2011; and (§ 668.57(a)(3)(i) and (a)(4)(i))
| (b) The sources of income earned from work as reported on the FAFSA and amounts of income from each source for tax year 2011 that is not reported on IRS Form W-2. (§ 668.57(a)(3)(i) and (a)(4)(i))
¹ A tax filer that filed an income tax return other than an IRS form, such as a foreign or Puerto Rican tax form, must use the income information (converted to U.S. dollars) from the lines of the relevant income tax return that corresponds most closely to the income information reported on a U.S. income tax return.
² If an institution determines that obtaining a transcript from the IRS is not possible, the institution may accept a copy of the 2011 income tax return that includes the signature of the filer of the income tax return or one of the filers of a joint income tax return, or the preparer's Social Security Number, Employer Identification Number or that has the Preparer Tax Identification Number and has been signed, stamped, typed, or printed with the name and address of the preparer of the income tax return. § 668.57(a)(1)(i) and § 668.57(a)(7)
³ If an individual who is required to submit an IRS Form W-2 is unable to obtain one in a timely manner, the institution may permit that individual to provide a signed statement that includes the amount of income earned from work, the source of that income, and the reason that the IRS Form W-2 is not available in a timely manner.

Other Sources for Detailed Information

We provide a more detailed discussion on the verification process in the following publications:

• Preamble to the Program Integrity Notice of Proposed Rulemaking (NPRM) (See 75 FR 34825-34834 (June 18, 2010)).

• Preamble and Subpart E of the Program Integrity Final Regulations (See 75 FR 66902-66913 and 66954-66958 (October 29, 2010)).

• Dear Colleague Letter GEN-11-03.

• 2012-2013 Application and Verification Guide.

• 2012-2013 ISIR Guide.

• 2012-2013 SAR Comment Codes and Text.

• 2012-2013 COD Technical Reference.

You may access these publications at the Information for Financial Aid Professionals Web site at: http://www.ifap.ed.gov.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Program Authority: 20 U.S.C. 1070a, 1070a-1, 1070b-1070b-4, 1070c-1070c-4, 1070g, 1071-1087-2, 1087a-1087j, and 1087aa-1087ii; 42 U.S.C. 2751-2756b.

Dated: July 8, 2011.
Eduardo M. Ochoa,
Assistant Secretary for Postsecondary Education.

[FR Doc. 2011-17655 Filed 7-12-11; 8:45 am]

BILLING CODE 4000-01-P